DEPARTMENT OF JUSTICE

Drug Enforcement Administration

[Docket No. DEA-392]

Bulk Manufacturer of Controlled Substances Application: Nanosyn, Inc

ACTION: Notice of application.

DATES: Registered bulk manufacturers of the affected basic classes, and applicants therefore, may file written comments on or objections to the issuance of the proposed registration on or before October 28, 2019.

ADDRESSES: Written comments should be sent to: Drug Enforcement Administration, Attention: DEA Federal Register Representative/DPW, 8701 Morrissette Drive, Springfield, Virginia 22152.

SUPPLEMENTARY INFORMATION:

In accordance with 21 CFR 1301.33(a), this is notice that on July 17, 2019, Nanosyn Inc., 3331 Industrial Drive, Suite B, Santa Rosa, California 95403-2062 applied to be registered as a bulk manufacturer of the following basic classes of controlled substances:

Controlled Substance | Drug Code | Schedule
Fentanyl | 9801 | II
Oxymorphone | 9652 | II

The company is a contract manufacturer. At the request of the company's customers, it manufactures derivatives of controlled substances in bulk form.

Dated: August 9, 2019.
Neil D. Doherty,
Acting Assistant Administrator.

[FR Doc. 2019-18454 Filed 8-26-19; 8:45 am]

BILLING CODE 4410-09-P